DEPARTMENT OF ENERGY

Federal Energy Regulatory Commission

Combined Notice of Filings #1

Take notice that the Commission received the following electric rate filings:

Docket Numbers: ER10-1790-011; ER10-2596-003; ER10-2597-003; ER12-2200-002.

Applicants: BP Energy Company, Fowler Ridge II Wind Farm LLC, Fowler Ridge III Wind Farm LLC, Mehoopany Wind Energy LLC.

Description: Updated Market Power Analysis for Northeast Region of BP Energy Company, et al.

Filed Date: 6/24/14.

Accession Number: 20140624-5040.

Comments Due: 5 p.m. ET 8/23/14.

Docket Numbers: ER12-2498-008; ER12-2499-008; ER13-764-008.

Applicants: Alpaugh 50, LLC, Alpaugh North, LLC, CED White River Solar, LLC.

Description: Notice of Change in Status of Alpaugh North, LLC, et al.

Filed Date: 6/23/14.

Accession Number: 20140623-5170.

Comments Due: 5 p.m. ET 7/14/14.

Docket Numbers: ER14-2147-000.

Applicants: Public Service Company of New Mexico.

Description: Supplement to June 6, 2014 Public Service Company of New Mexico tariff filing.

Filed Date: 6/23/14.

Accession Number: 20140623-5171.

Comments Due: 5 p.m. ET 7/14/14.

Docket Numbers: ER14-2245-000.

Applicants: TriEagle Energy, LP.

Description: Initial Filing to be effective 6/23/2014.

Filed Date: 6/23/14.

Accession Number: 20140623-5105.

Comments Due: 5 p.m. ET 7/14/14.

Docket Numbers: ER14-2246-000.

Applicants: PJM Interconnection, L.L.C.

Description: Service Agreement No. 2933; Queue No. W2-076 to be effective 5/23/2014.

Filed Date: 6/23/14.

Accession Number: 20140623-5116.

Comments Due: 5 p.m. ET 7/14/14.

Docket Numbers: ER14-2247-000.

Applicants: PJM Interconnection, L.L.C.

Description: Service Agreement No. 3284; Queue No. W3-139 to be effective 5/23/2014.

Filed Date: 6/23/14.

Accession Number: 20140623-5123.

Comments Due: 5 p.m. ET 7/14/14.

Docket Numbers: ER14-2248-000.

Applicants: San Diego Gas & Electric Company.

Description: Petition for One-Time Limited Waiver and Request for an Expedited Ruling and Shortened Comment Period of San Diego Gas & Electric Company.

Filed Date: 6/23/14.

Accession Number: 20140623-5158.

Comments Due: 5 p.m. ET 7/7/14.

Docket Numbers: ER14-2249-000.

Applicants: Midcontinent Independent System Operator, Inc.

Description: 2014-06-24_SA 2637 Borders Wind-NSP Amended E&P (J290) to be effective 6/25/2014.

Filed Date: 6/24/14.

Accession Number: 20140624-5026.

Comments Due: 5 p.m. ET 7/15/14.

Docket Numbers: ER14-2250-000.

Applicants: Midcontinent Independent System Operator, Inc.

Description: 2014-06-24_SA 2673 Odell Wind-NSP E&P Agreement (G826) to be effective 6/25/2014.

Filed Date: 6/24/14.

Accession Number: 20140624-5029.

Comments Due: 5 p.m. ET 7/15/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 24, 2014.
Nathaniel J. Davis, Sr.,
Deputy Secretary.

[FR Doc. 2014-15632 Filed 7-2-14; 8:45 am]

BILLING CODE 6717-01-P